DEPARTMENT OF HEALTH AND HUMAN SERVICES

Centers for Medicare & Medicaid Services

[Document Identifiers CMS-10141, CMS-10227, and CMS-R-138]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by January 13, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-6974 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Prescription Drug Benefit Program; Use: Part D plans use the information to comply with the eligibility and associated Part D participating requirements. We use the information to approve contract applications, monitor compliance with contract requirements, make proper payment to plans, and to ensure that correct information is disclosed to potential and current enrollees. Form Number: CMS-10141 (OCN: 0938-0964); Frequency: Occasionally; Affected Public: Individuals or households, Private sector—Business or other for-profits and Not-for-profit institutions, and State, Local, or Tribal Governments; Number of Respondents: 4,100,953; Total Annual Responses: 26,301,339; Total Annual Hours: 7,572,243. (For policy questions regarding this collection contact Deborah Larwood at 410-786-9500).

2. Type of Information Collection Request: Extension without change of a currently approved collection; Title of Information Collection: PACE State Plan Amendment Preprint; Use: If a state elects to offer PACE as an optional Medicaid benefit, it must complete a state plan amendment preprint packet described as “Enclosures #3,4,5,6 and 7.” The information, collected from the state on a one-time basis is needed in order to determine if the state has properly elected to cover PACE services as a state plan option. Form Number: CMS-10227 (OCN: 0938-1027); Frequency: Once and occasionally; Affected Public: State, Local, or Tribal Governments; Number of Respondents: 21; Total Annual Responses: 7; Total Annual Hours: 240. (For policy questions regarding this collection contact Angela Taube at 410-786-2638).

3. Type of Information Collection Request: Reinstatement without change of a previously approved collection; Title of Information Collection: Medicare Geographic Classification Review Board (MGCRB) Procedures and Supporting Regulations; Use: The information submitted by the hospitals is used to determine the validity of the hospitals' requests and the discretion used by the Medicare Geographic Classification Review Board (MGCRB) in reviewing and making decisions regarding hospitals' requests for geographic reclassification. Form Number: CMS-R-138 (OCN: 0938-0573); Frequency: Yearly; Affected Public: Business or other for-profits and Not-for-profit institutions, and State, Local, or Tribal Governments; Number of Respondents: 300; Total Annual Responses: 300; Total Annual Hours: 300. (For policy questions regarding this collection contact Geri Mondowney at 410-786-1172).

Dated: December 9, 2013.
Martique Jones,
Deputy Director, Regulations Development Group, Office of Strategic Operations and Regulatory Affairs.

[FR Doc. 2013-29726 Filed 12-12-13; 8:45 am]

BILLING CODE 4120-01-P